DEPARTMENT OF HOUSING AND URBAN DEVELOPMENT

[Docket No. FR-6135-N-01]

Rental Assistance Demonstration: Amendment to Final Notice

AGENCY: Office of the Assistant Secretary for Housing-Federal Housing Commissioner and Office of the Assistant Secretary for Public and Indian Housing, HUD.

ACTION: Notice.

SUMMARY: This notice announces a change to the Rental Assistance Demonstration (RAD) regarding conversions to project-based rental assistance under RAD's Second Component.

DATES: The RAD Supplemental Notice, PIH 2018-22/H 2018-11, is operative December 11, 2018.

ADDRESSES: Interested persons are invited to submit questions or comments electronically to rad@hud.gov.

FOR FURTHER INFORMATION CONTACT: To assure a timely response, please direct requests for further information electronically to the email address rad@hud.gov. Written requests may also be directed to the following address: Office of Housing—Office of Recapitalization; Department of Housing and Urban Development; 451 7th Street SW, Room 6230; Washington, DC 20410.

SUPPLEMENTARY INFORMATION:

I. Background

RAD, initially authorized by the Consolidated and Further Continuing Appropriations Act, 2012 (Pub. L. 122-55, signed November 18, 2011) (2012 Appropriations Act), allows for the conversion of assistance under the public housing, Rent Supplement (Rent Supp), Rental Assistance (RAP), Moderate Rehabilitation (Mod Rehab), and Mod Rehab Single Room Occupancy (SRO) programs (collectively, “covered programs”) to long-term, renewable assistance under the Section 8 project based voucher (PBV) or project based rental assistance (PBRA) programs. The most recent version of the RAD program notice is PIH 2012-32/Housing 2017-03, REV-3, which has been amended by supplemental guidance published July 2, 2018, is located at https://www.hud.gov/sites/dfiles/Housing/documents/RAD_Notice_Rev3_Amended_by_RSN_7-2018.pdf.

This notice announces the posting of a second supplement to the most current notice PIH 2012-32/Housing 2017-03 REV-3 (RAD Supplemental Notice 3.B, PIH 2018-22/H 2018-11). As provided by the RAD Statute (Section 237 of Title II, Division L, Transportation, Housing and Urban Development, and Related Agencies, of the Consolidated Appropriations Act, 2018, Pub. L. 115-141), this notice addresses the requirement that the demonstration may proceed after HUD publishes the terms of the notice in the Federal Register. This notice summarizes the key changes made to the PIH 2012-32/Housing 2017-03 REV-3 through the RAD Supplemental Notice, PIH 2018-22/H 2018-11.

II. Key Changes

In order to maximize the resources available to make property improvements for low-income households living in properties converting under the Second Component of RAD and to align RAD requirements more closely with the underlying PBRA statutory and regulatory requirements related to the Davis-Bacon Act of 1931, the Supplemental Program Notice clarifies that execution of a PBRA contract as a result of the conversion of Rent Supp, RAP, Mod Rehab, or Mod Rehab SRO contracts through RAD after the publication of this notice does not trigger Davis-Bacon prevailing wage requirements.

III. Revised Program Notice Availability

The RAD Supplemental Notice (PIH 2018-22/H 2018-11) can be found on RAD's website, www.hud.gov/RAD.

IV. Finding of No Significant Impact

A Finding of No Significant Impact (FONSI) with respect to the environment has been made in accordance with HUD regulations in 24 CFR part 50, which implemented section 102(2)(C) of the National Environmental Policy Act of 1969 (42 U.S.C. 4332(2)(C)). The FONSI is available for public inspection during regular business hours in the Regulations Division, Office of General Counsel, Department of Housing and Urban Development, 451 7th Street SW, Room 10276, Washington, DC 20410-0500. Due to security measures at the HUD Headquarters building, please schedule an appointment to review the FONSI by calling the Regulations Division at (202) 708-3055 (this is not a toll-free number). Individuals with speech or hearing impairments may access this number via TTY by calling the Federal Relay Service at (800) 877-8339.

Dated: November 28, 2018.
Dominique Blom,
General Deputy Assistant Secretary for Public and Indian Housing.
Brian D. Montgomery,
Assistant Secretary for Housing—Federal Housing Commissioner.

[FR Doc. 2018-26709 Filed 12-10-18; 8:45 am]

BILLING CODE 4210-67-P